DEPARTMENT OF COMMERCE

International Trade Administration

[A-570-016]

Certain Passenger Vehicle and Light Truck Tires From the People's Republic of China: Preliminary Determination of Sales at Less Than Fair Value; Preliminary Affirmative Determination of Critical Circumstances; In Part and Postponement of Final Determination

AGENCY: Enforcement and Compliance, International Trade Administration, Department of Commerce.

SUMMARY: The Department of Commerce (Department) preliminarily determines that certain Passenger Vehicle and Light Truck Tires (passenger tires) from the People's Republic of China (PRC) are being, or are likely to be, sold in the United States at less than fair value (LTFV), as provided in section 733(b) of the Tariff Act of 1930, as amended (the Act). The period of investigation (POI) is October 1, 2013, through March 31, 2014. The estimated weighted-average dumping margins of sales at LTFV are shown in the “Preliminary Determination” section of this notice. Interested parties are invited to comment on this preliminary determination.

DATES: Effective Date: January 27, 2015.

FOR FURTHER INFORMATION CONTACT: Toni Page, Lingjun Wang, or Jun Jack Zhao, AD/CVD Operations, Office VII, Enforcement and Compliance, International Trade Administration, U.S. Department of Commerce, 14th Street and Constitution Avenue NW., Washington, DC 20230; telephone: (202) 482-1398, (202) 482-2316, or (202) 482-1396, respectively.

SUPPLEMENTARY INFORMATION:

Background

The Department published the notice of initiation of this investigation on July 21, 2014.¹ Pursuant to section 733(c)(1)(A) of the Act, on October 9, 2014, the Department postponed this preliminary LTFV determination by a period of 50 days.²

¹ See Certain Passenger Vehicle and Light Truck Tires From the People's Republic of China: Initiation of Antidumping Duty Investigation, 79 FR 42292 (July 21, 2014) (Initiation Notice).

² See Certain Passenger Vehicle and Light Truck Tires From the People's Republic of China: Postponement of Preliminary Determination of Antidumping Duty Investigation, 79 FR 61052 (October 9, 2014).

Scope of the Investigation

On December 30, 2014, the Department published an amended preliminary determination in the companion countervailing duty (CVD) investigation of passenger tires from the PRC, which contains an amended scope of this investigation.³ For a full description of the amended scope of this investigation, see “Scope of Investigation” at Appendix I of this notice.

³ See Countervailing Duty Investigation of Certain Passenger Vehicle and Light Truck Tires From the People's Republic of China: Amended Affirmative Preliminary Determination, 79 FR 78398 (December 30, 2014) at Appendix-Scope of the Investigation.

Methodology

The Department conducted this investigation in accordance with section 731 of the Act. We calculated export prices and constructed export prices in accordance with section 772 of the Act. Because the PRC is a non-market economy within the meaning of section 771(18) of the Act, we calculated normal value (NV) in accordance with section 773(c) of the Act.

For a full description of the methodology underlying our conclusions, see the Preliminary Decision Memorandum.⁴

⁴ See Memorandum to Paul Piquado, Assistant Secretary for Enforcement and Compliance, “Decision Memorandum for the Preliminary Determination in the Antidumping Duty Investigation of Certain Passenger Vehicle and Light Truck Tires From the People's Republic of China” (January 20, 2015) (Preliminary Decision Memorandum). A list of topics discussed in the Preliminary Decision Memorandum is found at Appendix II of this notice.

Combination Rates

In the Initiation Notice, the Department stated that it would calculate combination rates for the respondents that are eligible for a separate rate in this investigation. Policy Bulletin 05.1 describes this practice.⁵

⁵ See Enforcement and Compliance's Policy Bulletin No. 05.1, regarding, “Separate-Rates Practice and Application of Combination Rates in Antidumping Investigations involving Non-Market Economy Countries,” (April 5, 2005) (Policy Bulletin 05.1), available on the Department's Web site at http://enforcement.trade.gov/policy/bull05-1.pdf.

Preliminary Determination

The Department preliminarily determines that the following weighted-average dumping margins exist for the exporter-producer combinations listed below during the period October 1, 2013, through March 31, 2014:

Exporter(s) | Producer(s) | Weighted- average dumping margin (percent)
GITI:
Giti Tire Global Trading Pte. Ltd., Giti Tire (USA) Ltd., Giti Tire (Anhui) Company Ltd., Giti Tire (Fujian) Company Ltd., Giti Tire (Hualin) Company Ltd | Giti Tire (Anhui) Company Ltd., Giti Tire (Fujian) Company Ltd., Giti Tire (Hualin) Company Ltd | 19.17
Sailun Group:
Sailun Group Co., Ltd., Sailun Tire International Corp., Shandong Jinyu Industrial Co., Ltd., Jinyu International Holding Co., Limited, Seatex International Inc., Dynamic Tire Corp., Husky Tire Corp., Seatex PTE. Ltd | Sailun Group Co., Ltd., Shandong Jinyu Industrial Co., Ltd | 36.26
Cooper Tire & Rubber Company | Cooper Chengshan (Shandong) Tire Co., Ltd., Cooper (Kunshan) Tire Co., Ltd | 27.72
Cooper Chengshan (Shandong) Tire Co., Ltd | Cooper Chengshan (Shandong) Tire Co., Ltd | 27.72
Cooper (Kunshan) Tire Co., Ltd | Cooper (Kunshan) Tire Co., Ltd | 27.72
Best Choice International Trade Co., Limited | Qingdao Sentury Tire Co., Ltd., Shandong Haohua Tire Co., Ltd., Beijing Capital Tire Co., Ltd | 27.72
Bridgestone (Wuxi) Tire Co., Ltd | Bridgestone (Wuxi) Tire Co., Ltd | 27.72
Bridgestone Corporation | Bridgestone (Wuxi) Tire Co., Ltd | 27.72
Cheng Shin Tire & Rubber (China) Co., Ltd | Cheng Shin Tire & Rubber (China) Co., Ltd., Cheng Shin Tire & Rubber (Chongqing) Co., Ltd | 27.72
Crown International Corporation | Shandong Guofeng Rubber Plastics Co., Ltd., Shandong Haohua Tire Co., Ltd., Shandong Jinyu Industrial Co., Ltd., Doublestar-Dongfeng Tyre Co., Ltd., Shandong Yongshong Rubber Group Co., Ltd., Shengtai Group Co., Ltd., Qingdao .Doublestar Tire Industrial Co., Ltd., Shandong Yongtai Chemical Co., Ltd | 27.72
Goodyear Dalian Tire Company Limited | Goodyear Dalian Tire Company Limited | 27.72
Guangzhou Pearl River Rubber Tyre Ltd | Guangzhou Pearl River Rubber Tyre Ltd | 27.72
Hankook Tire China Co., Ltd | Hankook Tire China Co., Ltd | 27.72
Hebei Tianrui Rubber Co., Ltd | Hebei Tianrui Rubber Co., Ltd | 27.72
Hong Kong Tiancheng Investment & Trading Co., Limited | Shandong Linglong Tyre Co., Ltd | 27.72
Hong Kong Tri-Ace Tire Co., Limited | Shandong Yongtai Chemical Co., Ltd., Doublestar Dongfeng Tyre Co., Ltd | 27.72
Hwa Fong Rubber (Hong Kong) Ltd | Hwa Fong Rubber (Suzhou) Co., Ltd | 27.72
Jiangsu Hankook Tire Co., Ltd | Jiangsu Hankook Tire Co., Ltd | 27.72
Kenda Rubber (China) Co., Ltd | Kenda Rubber (China) Co., Ltd | 27.72
Kumho Tire Co., Inc | Kumho Tire (Tianjin) Co., Inc., Nanjing Kumho Tire Co., Ltd., Kumho Tire (Changchun) Co., Inc | 27.72
Liaoning Permanent Tyre Co., Ltd | Liaoning Permanent Tyre Co., Ltd | 27.72
Longkou Xinglong Tyre Co., Ltd | Longkou Xinglong Tyre Co., Ltd | 27.72
Mayrun Tyre (Hong Kong) Limited | South China Tire &Rubber Co., Ltd., Shandong Haohua Tire Co., Ltd | 27.72
Nankang (Zhangjiagang Free Trade Zone) Rubber Industrial Co., Ltd | Nankang (Zhangjiagang Free Trade Zone) Rubber Industrial Co., Ltd | 27.72
Pirelli Tyre Co., Ltd | Pirelli Tyre Co., Ltd | 27.72
Qingdao Nama Industrial Co., Ltd | Shandong Guofeng Rubber Plastics Co., Ltd., Shandong Hengyu Science & Technology Co., Ltd., Shandong Longyue Rubber Co., Ltd., Shandong Haohua Tire Co., Ltd., Shouguang Firemax Tyre Co., Ltd., Shandong Zhongyi Rubber Co., Ltd., Shandong Yonking Rubber Co., Ltd., Shandong Hongsheng Rubber Technology Co., Ltd | 27.72
Qingdao Au-Shine Group Co., Limited | Shandong Gulun Rubber Co., Ltd | 27.72
Qingdao Crown Chemical Co., Ltd | Shandong Guofeng Rubber Plastics Co., Ltd., Shandong Haohua Tire Co., Ltd., Shandong Jinyu Industrial Co., Ltd., Doublestar-Dongfeng Tyre Co., Ltd., Shandong Yongsheng Rubber Group Co., Ltd | 27.72
Qingdao Free Trade Zone Full-World International Trading Co., Ltd | Shandong Zhentai Group Co., Ltd., Longkou Xinglong Tyre Co., Ltd., Hebei Tianrui Rubber Co., Ltd | 27.72
Qingdao Fullrun Tyre Tech Corp., Ltd | Qingdao Fullrun Tyre Tech Corp., Ltd | 27.72
Qingdao Honghua Tyre Factory | Qingdao Honghua Tyre Factory | 27.72
Qingdao Nexen Tire Corporation | Qingdao Nexen Tire Corporation | 27.72
Qingdao Odyking Tyre Co., Ltd | Doublestar Dongfeng Tyre Co., Ltd., Shandong Fengyuan Tire Manufacturing Co., Ltd., Shouguang Firemax Tyre Co., Ltd | 27.72
Qingdao Qianzhen Tyre Co., Ltd | Qingdao Qianzhen Tyre Co., Ltd | 27.72
Qingdao Qihang Tyre Co., Ltd | Qingdao Qihang Tyre Co., Ltd | 27.72
Qingdao Qizhou Rubber Co., Ltd | Qingdao Qizhou Rubber Co., Ltd | 27.72
Qingdao Sentury Tire Co., Ltd | Qingdao Sentury Tire Co., Ltd | 27.72
Shandong Duratti Rubber Corporation Co., Ltd | Shandong Duratti Rubber Corporation Co., Ltd | 27.72
Shandong Fengyuan Tire Manufacturing Co., Ltd | Shandong Fengyuan Tire Manufacturing Co., Ltd | 27.72
Shandong Guofeng Rubber Plastics Co., Ltd | Shandong Guofeng Rubber Plastics Co., Ltd | 27.72
Shandong Haohua Tire Co., Ltd | Shandong Haohua Tire Co., Ltd | 27.72
Shandong Haolong Rubber Tire Co., Ltd | Shandong Haolong Rubber Tire Co., Ltd | 27.72
Shandong Hawk International Rubber Industry Co., Ltd | Shandong Hawk International Rubber Industry Co., Ltd | 27.72
Shandong Hengyu Science & Technology Co., Ltd | Shandong Hengyu Science & Technology Co., Ltd | 27.72
Shandong Linglong Tyre Co., Ltd | Shandong Linglong Tyre Co., Ltd | 27.72
Shandong Longyue Rubber Co., Ltd | Shandong Longyue Rubber Co., Ltd | 27.72
Shandong New Continent Tire Co., Ltd | Shandong New Continent Tire Co., Ltd | 27.72
Shandong Province Sanli Tire Manufactured Co., Ltd | Shandong Province Sanli Tire Manufactured Co., Ltd | 27.72
Shandong Shuangwang Rubber Co., Ltd | Shandong Shuangwang Rubber Co., Ltd | 27.72
Shandong Wanda Boto Tyre Co., Ltd | Shandong Wanda Boto Tyre Co., Ltd | 27.72
Shandong Yongtai Chemical Co., Ltd | Shandong Yongtai Chemical Co., Ltd | 27.72
Shandong Zhongyi Rubber Co., Ltd | Shandong Zhongyi Rubber Co., Ltd | 27.72
Shandong Huitong Tyre Co., Ltd | Shandong Huitong Tyre Co., Ltd., Laiwu Sunshine Tyre Co., Ltd | 27.72
Shengtai Group Co., Ltd | Shengtai Group Co., Ltd., Shandong Shengshitailai Rubber Technology Co., Ltd | 27.72
Shifeng Juxing Tire Co., Ltd | Shifeng Juxing Tire Co., Ltd | 27.72
Shouguang Firemax Tyre Co., Ltd | Shouguang Firemax Tyre Co., Ltd | 27.72
Southeast Mariner International Co., Ltd | Dongying Zhongyi Rubber Co., Ltd., Shandong Haohua Tire Co., Ltd | 27.72
Techking Tires Limited | Shandong Longyue Rubber Co., Ltd | 27.72
Toyo Tire (Zhangjiagang) Co., Ltd | Toyo Tire (Zhangjiagang) Co., Ltd | 27.72
Triangle Tyre Co., Ltd | Triangle Tyre Co., Ltd | 27.72
Tyrechamp Group Co., Ltd | Shandong Haohua Tire Co., Ltd., Sichuan Tyre&Rubber Co., Ltd., Shandong Anchi Tyres Co., Ltd., Beijing Capital Tire Co. Ltd., Shandong Wanda Boto Tyre Co., Ltd., Shandong Wosen Rubber Co., Ltd., Shandong Zhentai Group Co., Ltd., Shandong Yonking Rubber Co., Ltd., Qingdao Doublestar Tyre Industrial Co., Ltd., South China Tire & Rubber Co. Ltd., Anhui Heding Tire Technology Co., Ltd | 27.72
Weihai Ping'an Tyre Co., Ltd | Weihai Ping'an Tyre Co., Ltd | 27.72
Weihai Zhongwei Rubber Co., Ltd | Weihai Zhongwei Rubber Co., Ltd | 27.72
Wendeng Sanfeng Tyre Co., Ltd | Wendeng Sanfeng Tyre Co., Ltd | 27.72
Winrun Tyre Co., Ltd | Shaanxi Yanchang Petroleum Group Rubber Co. Ltd | 27.72
Zenith Holdings (HK) Limited | Shandong Linglong Tyre Co., Ltd | 27.72
Zhaoqing Junhong Co., Ltd | Zhaoqing Junhong Co., Ltd | 27.72
PRC-Wide Entity |  | 87.99

As detailed in the Preliminary Decision Memorandum, Yongsheng Rubber Group Co., Ltd. (Yongsheng), a mandatory respondent in this investigation, did not demonstrate that it is entitled to a separate rate. Accordingly, we consider Yongsheng to be part of the PRC-Wide Entity.

Preliminary Affirmative Determination of Critical Circumstances, In Part

On September 12, 2014, United Steel, Paper, and Forestry, Rubber, Manufacturing, Energy, Allied Industrial and Service Workers International Union, AFL-CIO, CLC (Petitioner), timely filed a critical circumstances allegation, pursuant to section 733(e) of the Act and 19 CFR 351.206, alleging that critical circumstances exist with respect to imports of passenger tires from the PRC.⁶ We preliminarily determine that critical circumstances do not exist for GITI and the Sailun Group, while they do exist for all non-individually investigated companies and the PRC-wide entity. A discussion of our determination can be found in the Preliminary Decision Memorandum at the section, “Preliminary Determination of Critical Circumstances, In Part.”

⁶ See Letter from Petitioner to the Secretary of Commerce, “Certain Passenger Vehicle and Light Truck Tires From the People's Republic of China—Petitioner's Critical Circumstances Allegation,” dated September 12, 2014.

Disclosure and Public Comment

The Department intends to disclose calculations performed for this preliminary determination to parties in this proceeding within five days of the date of publication of this notice in accordance with 19 CFR 351.224(b). Case briefs or other written comments may be submitted to the Assistant Secretary for Enforcement and Compliance, through Enforcement and Compliance's electronic records system, ACCESS, no later than seven days after the date on which the final verification report is issued in this proceeding.⁷ Rebuttal briefs, limited to issues raised in case briefs, may be submitted through ACCESS no later than five days after the deadline for case briefs.⁸ Pursuant to 19 CFR 351.309(c)(2) and (d)(2), parties who submit case briefs or rebuttal briefs in this proceeding are encouraged to submit with each argument: (1) A statement of the issue; (2) a brief summary of the argument; and (3) a table of authorities.

⁷ See 19 CFR 351.309(c).

⁸ See 19 CFR 351.309(d).

Pursuant to 19 CFR 351.310(c), interested parties who wish to request a hearing, or to participate in a hearing if one is requested, must submit a written request to the Assistant Secretary for Enforcement and Compliance, U.S. Department of Commerce, filed electronically through ACCESS. Electronically filed case briefs/written comments and hearing requests must be received successfully in their entirety by the Department's electronic records system, ACCESS, by 5:00 p.m. Eastern Standard Time. Hearing requests must be received by the Department within 30 days after the date of publication of this notice ⁹ and should contain the party's name, address, and telephone number, the number of participants, and a list of the issues to be presented at the hearing. If a request for a hearing is made, the Department intends to hold the hearing at the U.S. Department of Commerce, 14th Street and Constitution Avenue NW., Washington, DC 20230, at a time and location to be determined. Parties should confirm by telephone the date, time, and location of the hearing two days before the scheduled date.

⁹ See 19 CFR 351.310(c).

Suspension of Liquidation

In accordance with section 733(d)(2) of the Act, the Department will instruct U.S. Customs and Border Protection (CBP) to suspend liquidation of all entries of passenger tires from the PRC, as described in the “Scope of the Investigation” at Appendix I, entered, or withdrawn from warehouse, for consumption on or after the date of publication of this notice in the Federal Register.

Section 733(e)(2) of the Act provides that, given an affirmative determination of critical circumstances, any suspension of liquidation shall apply to unliquidated entries of merchandise entered, or withdrawn from warehouse, for consumption on or after the later of (a) the date which is 90 days before the date on which the suspension of liquidation was first ordered, or (b) the date on which notice of initiation of the investigation was published. As described above, we preliminarily find that critical circumstances exist for imports of passenger tires from the PRC produced or exported by the non-individually investigated companies and the PRC-wide entity. Accordingly, for the non-individually investigated companies and the PRC-wide entity, in accordance with section 733(e)(2)(A) of the Act, the suspension of liquidation shall apply to unliquidated entries of merchandise entered, or withdrawn from warehouse, for consumption on or after the date which is 90 days before the publication of this notice.

Pursuant to 19 CFR 351.205(d), the Department will instruct CBP to require a cash deposit ¹⁰ equal to the weighted-average amount by which NV exceeds U.S. price as follows: (1) The cash deposit rate for the exporter/producer combination listed in the table above will be the rate identified for that combination in the table, adjusted where appropriate for export subsidies ¹¹ and estimated domestic subsidy pass-through; ¹² (2) for all combinations of PRC exporters/producers of merchandise under consideration that have not received their own separate rate above, the cash-deposit rate will be the cash deposit rate established for the PRC-wide entity, 87.99 percent; and (3) for all non-PRC exporters of the merchandise under consideration which have not received their own separate rate above, the cash-deposit rate will be the cash deposit rate applicable to the PRC exporter/producer combination that supplied that non-PRC exporter. The suspension of liquidation and cash deposit instructions will remain in effect until further notice.

¹⁰ See Modification of Regulations Regarding the Practice of Accepting Bonds During the Provisional Measures Period in Antidumping and Countervailing Duty Investigations, 76 FR 61042 (October 3, 2011).

¹¹ See section 772(c)(1)(C) of the Act; see also Notice of Final Determination of Sales at Less Than Fair Value, and Negative Determination of Critical Circumstances: Certain Lined Paper Products from India, 71 FR 45012 (August 8, 2006), and accompanying Issues and Decision Memorandum at Comment 1.

¹² For further discussion, see the Preliminary Decision Memorandum at the section, “Section 777A(f) of the Act.”

As stated previously, we will adjust cash deposit rates by the amount of export subsidies, where appropriate. In the companion CVD investigation, GITI received a calculated export subsidy rate of 0.45 percent while the all-others companies received a calculated export subsidy rate of 0.28 percent.¹³ Therefore, we will offset GITI's cash deposit rate of 19.17 percent by 0.45 percent, while the Sailun Group's and the Separate Rate entities' cash deposit rates of 36.26 percent and 27.72 percent, respectively, will be reduced by 0.28 percent as these companies were considered “all-others” companies in the companion CVD case. Cooper Tire & Rubber Company, Cooper (Kunshan) Tire Co., Ltd., and Cooper Chengshan (Shandong) Tire Co., Ltd. (collectively, Cooper), did not receive a calculated export subsidy rate in the companion CVD investigation; therefore, we are not adjusting their cash deposit rate for export subsidies. Finally, we are not adjusting the cash deposit rate applicable to the PRC-wide entity for export subsidies.¹⁴

¹³ See Countervailing Duty Investigation of Certain Passenger Vehicle and Light Truck Tires From the People's Republic of China: Amended Affirmative Preliminary Determination, 79 FR 78398 (December 30, 2014) and accompanying Allegation of Significant Ministerial Errors in the Preliminary Determination of the Countervailing Duty Investigation of Certain Passenger Vehicle and Light Truck Tires From the People's Republic of China (PRC Tires Amended CVD Preliminary Determination); see also Memorandum to the File Re: Calculation of the All-Others Amended Preliminary Rate (December 19, 2014).

¹⁴ Id.

Pursuant to 777A(f) of the Act, we are also adjusting preliminary cash deposit rates for estimated domestic subsidy pass-through, where appropriate. We will adjust Cooper's, the Sailun Group's, and the Separate Rate recipients' cash deposit rates by 6.97 percent to account for estimated domestic subsidy pass-through.¹⁵ We are not adjusting GITI's rate for estimated domestic subsidy pass-through because GITI has not demonstrated eligibility for an adjustment.¹⁶ Finally, we are also not adjusting the PRC-wide entity rate for estimated domestic subsidy pass-through.¹⁷

¹⁵ See Preliminary Decision Memorandum at “Adjustment Under Section 777A(F) of the Act.”

¹⁶ Id.

¹⁷ Id.

Postponement of Final Determination

Pursuant to request from the mandatory respondent GITI,¹⁸ we are postponing the final determination in accordance with section 735(a)(2)(A) of the Act. In addition, GITI requested to extend the application of the provisional measures prescribed under 733(d) of the Act and 19 CFR 351.210(e)(2), from a four-month period to a six-month period. The suspension of liquidation described above will be extended accordingly. Accordingly, we intend to make our final determination no later than 135 days after the date of publication of this preliminary determination, pursuant to section 735(a)(2) of the Act.¹⁹

¹⁸ See Letter from GITI to the Secretary of Commerce regarding “Passenger Vehicle and Light Truck Tires from the People's Republic of China; Request for Extension of the Final Determination” (January 13, 2013).

¹⁹ See also 19 CFR 351.210(b)(2) and (e).

International Trade Commission (ITC) Notification

In accordance with section 733(f) of the Act, we notified the ITC of our preliminary affirmative determination of sales at LTFV. Because the preliminary determination in this investigation is affirmative, section 735(b)(2) of the Act requires the ITC to make its final determination as to whether the domestic industry in the United States is materially injured, threatened with material injury, or is materially retarded, by reason of imports of passenger tires from the PRC, or sales (or the likelihood of sales) for importation, of the merchandise under consideration before the later of 120 days after the date of this preliminary determination or 45 days after our final determination. Because we are postponing the deadline for our final determination to 135 days from the date of publication of this preliminary determination, the ITC will make its final determination no later than 45 days after our final determination.

This determination is issued and published in accordance with sections 733(f) and 777(i)(1) of the Act and 19 CFR 351.205(c).

Dated: January 20, 2015.
Paul Piquado,
Assistant Secretary for Enforcement and Compliance.

Appendix I

Scope of the Investigation

The scope of this investigation is passenger vehicle and light truck tires. Passenger vehicle and light truck tires are new pneumatic tires, of rubber, with a passenger vehicle or light truck size designation. Tires covered by this investigation may be tube-type, tubeless, radial, or non-radial, and they may be intended for sale to original equipment manufacturers or the replacement market.

Subject tires have, at the time of importation, the symbol “DOT” on the sidewall, certifying that the tire conforms to applicable motor vehicle safety standards. Subject tires may also have the following prefixes or suffix in their tire size designation, which also appears on the sidewall of the tire:

Prefix designations:

P—Identifies a tire intended primarily for service on passenger cars

LT—Identifies a tire intended primarily for service on light trucks

Suffix letter designations:

LT—Identifies light truck tires for service on trucks, buses, trailers, and multipurpose passenger vehicles used in nominal highway service.

All tires with a “P” or “LT” prefix, and all tires with an “LT” suffix in their sidewall markings are covered by this investigation regardless of their intended use.

In addition, all tires that lack a “P” or “LT” prefix or suffix in their sidewall markings, as well as all tires that include any other prefix or suffix in their sidewall markings, are included in the scope, regardless of their intended use, as long as the tire is of a size that is among the numerical size designations listed in the passenger car section or light truck section of the Tire and Rim Association Year Book, as updated annually, unless the tire falls within one of the specific exclusions set out below.

Passenger vehicle and light truck tires, whether or not attached to wheels or rims, are included in the scope. However, if a subject tire is imported attached to a wheel or rim, only the tire is covered by the scope.

Specifically excluded from the scope of this investigation are the following types of tires:

(1) Racing car tires; such tires do not bear the symbol “DOT” on the sidewall and may be marked with “ZR” in size designation;

(2) new pneumatic tires, of rubber, of a size that is not listed in the passenger car section or light truck section of the Tire and Rim Association Year Book;

(3) pneumatic tires, of rubber, that are not new, including recycled and retreaded tires;

(4) non-pneumatic tires, such as solid rubber tires;

(5) tires designed and marketed exclusively as temporary use spare tires for passenger vehicles which, in addition, exhibit each of the following physical characteristics:

(a) the size designation and load index combination molded on the tire's sidewall are listed in Table PCT-1B (“T” Type Spare Tires for Temporary Use on Passenger Vehicles) of the Tire and Rim Association Year Book,

(b) the designation “T” is molded into the tire's sidewall as part of the size designation, and,

(c) the tire's speed rating is molded on the sidewall, indicating the rated speed in MPH or a letter rating as listed by Tire and Rim Association Year Book, and the rated speed is 81 MPH or a “M” rating;

(6) tires designed and marketed exclusively for specialty tire (ST) use which, in addition, exhibit each of the following physical characteristics:*

(a) the size designation molded on the tire's sidewall is listed in the ST sections of the Tire and Rim Association Year Book,

(b) the designation “ST” is molded into the tire's sidewall as part of the size designation,

(c) the tire incorporates a warning, prominently molded on the sidewall, that the tire is “For Trailer Service Only” or “For Trailer Use Only”,

(d) the load index molded on the tire's sidewall meets or exceeds those load indexes listed in the Tire and Rim Association Year Book for the relevant ST tire size, and

(e) the tire's speed rating is molded on the sidewall, indicating the rated speed in MPH or a letter rating as listed by TRA, and the rated speed does not exceed 81 MPH or an “M” rating;

(7) tires designed and marketed exclusively for off-road use and which, in addition, exhibit each of the following physical characteristics:

(a) the size designation and load index combination molded on the tire's sidewall are listed in the off-the-road, agricultural, industrial or ATV section of the Tire and Rim Association Year Book,

(b) in addition to any size designation markings, the tire incorporates a warning, prominently molded on the sidewall, that the tire is “Not For Highway Service” or “Not for Highway Use”,

(c) the tire's speed rating is molded on the sidewall, indicating the rated speed in MPH or a letter rating as listed by the Tire and Rim Association Year Book, and the rated speed does not exceed 55 MPH or a “G” rating, and

(d) the tire features a recognizable off-road tread design.

The products covered by the investigation are currently classified under the following Harmonized Tariff Schedule of the United States (HTSUS) subheadings: 4011.10.10.10, 4011.10.10.20, 4011.10.10.30, 4011.10.10.40, 4011.10.10.50, 4011.10.10.60, 4011.10.10.70, 4011.10.50.00, 4011.20.10.05, and 4011.20.50.10. Tires meeting the scope description may also enter under the following HTSUS subheadings: 4011.99.45.10, 4011.99.45.50, 4011.99.85.10, 4011.99.85.50, 8708.70.45.45, 8708.70.45.60, 8708.70.60.30, 8708.70.60.45, and 8708.70.60.60. While HTSUS subheadings are provided for convenience and for customs purposes, the written description of the subject merchandise is dispositive.

* We are currently suspending requirements (6)(d) and (e); therefore, tires entered, or withdrawn from warehouse for consumption that meet exclusion requirements (6)(a)-(c) above are excluded from the scope of this investigation.

Appendix II

List of Topics Discussed in the Preliminary Decision Memorandum

I. Summary

II. Background

III. Scope Comments

IV. Scope of the Investigation

V. Single Entity Treatment

VI. Discussion of the Methodology

VII. Application of Facts Available and Adverse Inferences

VIII. Preliminary Determination of Critical Circumstances, in Part

IX. Adjustment Under Section 777A(F) of the Act

X. Postponement of Final Determination

XI. Verification

XII. ITC Notification

XIII. Conclusion

[FR Doc. 2015-01504 Filed 1-26-15; 8:45 am]

BILLING CODE 3510-DS-P